DEPARTMENT OF THE INTERIOR

National Park Service

[NPS-WASO-ADIR-PMSP-22235; PPWOIRADC1, PPMPSAS1Y.YP0000 (177)]

Information Collection Request Sent to the Office of Management and Budget (OMB) for Approval; Certification of Identity and Consent Form

AGENCY: National Park Service, Interior.

ACTION: Notice; request for comments.

SUMMARY: We (National Park Service, NPS) have sent an Information Collection Request (ICR) to OMB for review and approval. We summarize the ICR below and describe the nature of the collection and the estimated burden and cost. We may not conduct or sponsor and a person is not required to respond to a collection of information unless it displays a currently valid OMB Control Number. However, under OMB regulations, we may continue to conduct or sponsor this information collection while it is pending at OMB.

DATES: You must submit comments on or before November 25, 2016.

ADDRESSES: Send your comments and suggestions on this information collection to the Desk Officer for the Department of the Interior at OMB-OIRA at (202) 395-5806 (fax) or OIRA_Submission@omb.eop.gov (email). Please provide a copy of your comments to the Information Collection Clearance Officer, National Park Service, 12201 Sunrise Valley Drive, Mail Stop 242, Reston, VA 20192 (mail); or madonna_baucum@nps.gov (email). Please reference OMB Control Number “1024-New Case Incident Report Request” in the subject line of your comments. You may review the ICR online at http://www.reginfo.gov. Follow the instructions to review Department of the Interior collections under review by OMB.

FOR FURTHER INFORMATION CONTACT: To request additional information about this IC, contact Charis Wilson, National Park Service, 12795 W. Alameda Parkway, P.O. Box 25287, Denver, CO 80225-0287 (mail); (303) 969-2959 (phone), or charis_wilson@nps.gov (email).

SUPPLEMENTARY INFORMATION:

I. Abstract

The NPS maintains law enforcement incident reports in the Department of the Interior's Incident and Management Reporting System (IMARS), which is a Privacy Act System of Records (DOI-10). In accordance with the Privacy Act (5 U.S.C. 552a(b)), the NPS is barred from releasing copies of records contained within IMARS, including but not limited to motor vehicle accident reports, without the prior written request and/or consent of the individual to whom the record pertains unless authorized under appropriate routine-use exceptions. The purpose of the collection is to enable the NPS to respond to requests made under the Freedom of Information Act and the Privacy Act of 1974 and to locate applicable law enforcement case incident reports responsive to the request. Information includes sufficient personally identifiable information and/or source documents as applicable. The detailed personal information, to include the date/place of birth, as well as the requestor's Social Security Number, is needed to identify records unique to the requestor. Failure to provide the required information may result in the NPS being unable to take any action on the request.

The NPS plans to implement the use of Form 10-945, “Certification of Identity and Consent” to collect the minimal information necessary to verify the identity of first-party requesters request information about themselves and document if and when they authorized the NPS to release their information to a third party. NPS Form 10-945 requires for the following information to verify the identity of the requester:

• Full name of Requester;

• Case Number;

• Social Security Number;

• Current Address;

• Date of Birth; and

• Place of birth.

II. Data

OMB Control Number: 1024—New.

Title: Certification of Identity and Consent Form.

Service Form Numbers: NPS Form 10-945, “Certification of Identity and Consent”.

Type of Request: Existing collection in use without OMB approval.

Description of Respondents: Individuals requesting copies of law enforcement case incident reports maintained within the Department of Interior's Incident Management and Reporting System (IMARS).

Frequency of Collection: On occasion.

Respondent's Obligation: Required to obtain or retain a benefit.

Estimated Number of Annual Responses: 2,000.

Estimated Completion Time per Response: 3 minutes.

Estimated Total Annual Burden Hours: 100.

Estimated Annual Nonhour Cost Burden: None.

III. Comments

On January 15, 2016, we published in the Federal Register (81 FR 2233) a Notice of our intent to request that OMB approval of this information collection. In that Notice, we solicited comments for 60 days, ending on March 15, 2016. No comments were received in response to that Notice.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: October 21, 2016.
Madonna L. Baucum,
Information Collection Clearance Officer, National Park Service.

[FR Doc. 2016-25847 Filed 10-25-16; 8:45 am]

BILLING CODE 4310-EH-P